DEPARTMENT OF HEALTH AND HUMAN SERVICES

Administration of Children and Families

Office of Refugee Resettlement

[CFDA No.: 93.566, Refugee Assistance— State Administered Programs]

Final Notice of Allocations to States of FY 2004 Funds for Refugee Social Services

AGENCY: Office of Refugee Resettlement (ORR), ACF, HHS.

ACTION: Final notice of allocations to States of FY 2004 funds for refugee social services.

SUMMARY: This notice establishes the final allocations to States of FY 2004 funds for refugee ¹ social services under the Refugee Resettlement Program (RRP). The final notice reflects amounts adjusted based upon final adjustments to FY 2001, FY 2002 and FY 2003 data submitted to ORR by twenty-two States.

¹ Eligibility for refugee social services include refugees, asylees, Cuban and Haitian entrants, certain Amerasians from Viet Nam who are admitted to the U.S. as immigrants, certain Amerasians from Viet Nam who are U.S. citizens, and victims of a severe form of trafficking who receive certification or eligibility letters from ORR. See 45 CFR 400.43 and ORR State Letter #01-13 on the Trafficking Victims Protection Act, dated May 3, 2001, as modified by ORR State Letter # 02-01, January 4, 2002. Due to recent legislative changes, certain family members who are accompanying or following to join victims of severe forms of trafficking also are eligible for ORR-funded benefits and services. These individuals have been granted nonimmigrant visas under 8 U.S.C. 1101(a)(15)(T)(ii). The term “refugee,” used in this notice for convenience, is intended to encompass such additional persons who are eligible to participate in refugee program services.

FOR FURTHER INFORMATION CONTACT: Kathy Do, Division of Budget, Policy, and Data Analysis (BPDA), telephone: (202) 401-4579, e-mail: kdo@acf.hhs.gov.

SUPPLEMENTARY INFORMATION:

I. Amounts for Allocation

The Office of Refugee Resettlement (ORR) has available $152,217,586 in FY 2004 refugee social service funds. See Consolidated Appropriations Act, 2004, Pub. L. 108-199. This amount reflects a rescission of 0.59 percent applied across the board to all line items.

The FY 2004 Conference Report (H.R. Rept. No. 108-401) reads as follows with respect to social service funds:

The conference agreement appropriates $450,276,000 rather than the $461,853,000 as proposed by H.R. 2660 and $428,056,000 as proposed by the Senate. Within this amount, $153,121,000 is provided for social services as proposed in H.R. 2660. The Senate bill included $140,000,000 for this purpose.

The agreement also includes $19,000,000 for increased support to communities with large concentrations of Cuban and Haitian refugees of varying ages whose cultural differences make assimilation especially difficult justifying a more intense level and longer duration of Federal assistance for healthcare and education.

The conferees recognize the importance of continued educational support to schools with a significant proportion of refugee children, consistent with previous support to schools heavily impacted by large concentrations of refugees, and urge the Office of Refugee Resettlement to support these efforts should funding become available in the social services or other programs.

ORR intends to use the $152,217,586 appropriated for FY 2004 social services as follows:

• $79,728,429 will be allocated under the 3-year population formula, as set forth in this notice for the purpose of providing employment services and other needed services to refugees.

• Approximately $5,200,000 is expected to be awarded as new social service discretionary grants under new and prior year standing competitive grant announcements issued separately from this proposed notice.

• Approximately $19,000,000 is expected to be awarded to serve communities most heavily affected by recent Cuban and Haitian entrant and refugee arrivals. These funds will be awarded under a prior year separate announcement.

• Approximately $35,400,000 is expected to be awarded through discretionary grants for continuation of awards made in prior years.

• Approximately $10,887,416 in FY 2004 social services funding will be utilized to continue the awards for educational support to schools with a significant proportion of refugee children, consistent with previous support to schools heavily impacted by large concentrations of refugees.

• Approximately $2,000,000 is expected to be awarded through contracts for an evaluation of the effectiveness of ORR employment programs.

Refugee Social Service Funds

The FY 2004 population figures that have been used for this final formula social services allocation include refugees, Amerasians from Viet Nam, Cuban/Haitian entrants, Havana parolees, and victims of severe forms of trafficking. These population figures are adjusted in the final allocation to reflect more accurate information on arrivals in 2003, secondary migration (including that of victims of severe forms of trafficking), asylee, and entrant data submitted by States. (See Section IV. Basis of Population Estimates.)

The Director allocates $79,728,429 to States on the basis of each State's proportion of the national population of refugees who have been in the U.S. three years or less as of October 1, 2003 (including a floor amount for States that have small refugee populations). Of the amount proposed to be awarded, approximately $6 million is expected to be awarded to Wilson/Fish Alternative Projects providing social services.

The use of the 3-year population base in the allocation formula is required by section 412(c)(1)(B) of the Immigration and Nationality Act (INA) which states that “funds available for a fiscal year for grants and contracts [for social services] * * * shall be allocated among the States based on the total number of refugees (including children and adults) who arrived in the United States not more than 36 months before the beginning of such fiscal year and who are actually residing in each State (taking into account secondary migration) as of the beginning of the fiscal year.”

As established in the FY 1992 social services notice published in the Federal Register on August 29, 1991, section I, “Allocation Amounts” (56 FR 42745), a variable floor amount for States which have small refugee populations is calculated as follows: If the application of the regular allocation formula yields less than $100,000, then—

(1) A base amount of $75,000 is provided for a State with a population of 50 or fewer refugees who have been in the U.S. 3 years or less; and

(2) For a State with more than 50 refugees who have been in the U.S. 3 years or less: (a) A floor has been calculated consisting of $50,000 plus the regular per capita allocation for refugees above 50 up to a total of $100,000 (in other words, the maximum under the floor formula is $100,000); (b) if this calculation has yielded less than $75,000, a base amount of $75,000 is provided for the State.

Population To Be Served and Allowable Services

Eligibility for refugee social services includes persons who meet all requirements of 45 CFR 400.43 (see Footnote 1 on page 1 for service populations). In addition, persons granted asylum are eligible for refugee benefits and services from the date that asylum was granted (see ORR State Letter No. 00-12, effective June 15, 2000, as clarified by ORR State Letter No. 00-15, August 3, 2000). Victims of a severe form of trafficking who have received a certification or eligibility letter from ORR are eligible from the date on the certification letter (see ORR State Letter No. 01-13, May 3, 2001, as modified by ORR State Letter No. 02-01, January 4, 2002). Certain family members of a victim of a severe form of trafficking who has been awarded a T visa are also eligible to the same extent as refugees if they have been awarded Derivative T Visas. In the case of an individual who is already present in the U.S. on the date the Derivative T Visa is issued, the date of entry is the Notice Date on the I-797, notice of action of approval of that individual's Derivative T Visa. For an individual who enters the United States on the basis of a Derivative T-Visa, the date of entry is the date of entry stamped on that individual's passport or I-94 Arrival Record. See Trafficking Victims Protection Act of 2000, 8 U.S.C. 7105(b)(1), as amended by the Trafficking Victims Protection Reauthorization Act of 2003, Pub. L. 108-193. A State Letter will soon be issued on this subject.

Services to refugees must be provided in accordance with the rules of 45 CFR part 400 subpart I—Refugee Social Services. Although the allocation formula is based on the 3-year refugee population, States may provide services to refugees who have been in the country up to 60 months (5 years), with the exception of referral and interpreter services and citizenship and naturalization preparation services for which there is no time limitation (45 CFR 400 152(b)).

Under waiver authority at 45 CFR 400.300, the Director of ORR may issue a waiver of the limitation on eligibility for social services contained in 45 CFR 400.152(b). There is no blanket waiver of this provision in effect for FY 2004. States may apply for a waiver of 45 CFR 400.152(b) in writing to the Director of ORR. Each waiver request will be reviewed based on supporting data and information provided. The Director of ORR will approve or disapprove each waiver request as expeditiously as possible.

A State must, however, have an approved State plan for the Cuban/Haitian Entrant Program or indicate in its refugee program State plan that Cuban/Haitian entrants will be served in order to use funds on behalf of entrants as well as refugees.

Allowable social services are those indicated in 45 CFR 400.154 and 400.155. Additional services not included in these sections that the State may wish to provide must be submitted to and approved by the Director of ORR as required under 45 CFR 400.155(h).

Service Priorities

In accordance with 45 CFR 400.147, States are required to provide social services to refugees in the following order of priority, except in certain individual extreme circumstances: (a) All newly arriving refugees during their first year in the U.S. who apply for services; (b) refugees who are receiving cash assistance; (c) unemployed refugees who are not receiving cash assistance; and (d) employed refugees in need of services to retain employment or to attain economic independence. In order for refugees to leave Temporary Assistance for Needy Families (TANF) quickly, States should, to the extent possible, ensure that all newly arriving refugees receive refugee-specific services designed to address the employment barriers that refugees typically face.

ORR encourages States to re-examine the range of services they currently offer to refugees. Those States that have had success in helping refugees achieve early employment may find it to be a good time to expand beyond the provision of basic employment services and address the broader needs that refugees have in order to enhance their ability to maintain financial security and to successfully integrate into the community. Other States may need to reassess the delivery of employment services in light of local economic conditions and develop new strategies to better serve the newly arriving refugee groups.

States should also be aware that ORR will make social services formula funds available to pay for social services that are provided to refugees who participate in Wilson/Fish projects which can be administered by public or private non-profit agencies, including refugee, faith-based and community organizations. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate standing notice with respect to applications for such projects. The notice can be found in the Federal Register (volume 69, FR 65, pages 17692-17700 (April 5, 2004)).

States are encouraged to consider eligible sub-recipients for formula social service funds, including public or private non-profit agencies such as, refugee, faith-based, and community organizations.

II. Comment and Response

Twenty-two (22) States submitted data to ORR by the established deadline. In the Notice of Proposed Allocations, ORR notified States that it would count asylees in its arrival numbers if the asylee received approval of his/her asylum claim between October 1, 2001, and September 30, 2003, and was served by the State through its refugee resettlement program or its social service system. Twenty-two States sent their list of asylees served to ORR. After review and verification, ORR included 15,702 asylees in the distribution formula. The majority of these asylees resided in four of the twenty-two States, namely California, Florida, Maryland, and New York. The names and A-numbers of asylees were compared with the ORR's asylee database compiled from the U.S. Bureau of Citizenship and Immigration Services (USBCIS), formerly INS/Asylum Corps, and the Executive Office of Immigration Review (EOIR) of the Department of Justice. A substantial number of these individuals were dropped from the State-supplied lists during the comparison process. The most common reason was that their date of asylum approved occurred outside of the 36-month period ending September 30, 2003. Additionally, a large number of asylees were dropped because their names and A-numbers did not match the USBCIS/EOIR file.

As was the case in FY 2003, one State (Florida) notified ORR that it had served a substantial number of entrants which are currently not captured in the traditional data gathering methods. Currently, entrants are identified as such when they arrive at Miami International Airport (MIA) from Cuba or are processed at the Krome Detention Center. However, many recent Cubans escaped from Cuba by sailing to Mexico and then re-entering the U.S. through a U.S. land border. Additionally, some Cuban parolees fly to airports other than Miami International Airport, and have not been counted to date. The State of Florida compiled a list of these entrants for verification by ORR. After determining that these individuals were not duplicates, ORR counted 4,901 additional entrants, and included these individuals in the distribution formula.

III. Allocation Formulas

Of the funds available for FY 2004 for social services, $79,728,429 is to be allocated to States in accordance with the formula specified in A. below.

A. A State's allowable formula allocation is calculated as follows:

1. The total amount of funds determined by the Director to be available for this purpose; divided by

2. The total number of refugees, Cuban/Haitian entrants, parolees, and Amerasians from Viet Nam, as shown by the ORR Refugee Arrivals Data System (RADS) for FY 2001-2002, Refugee Processing Center (RPC) data for FY 2003, and victims of severe forms of trafficking as shown by the certification and eligibility letters issued by ORR, who arrived in the United States not more than 3 years prior to the beginning of the fiscal year for which the funds are appropriated. This total also includes the total number of asylees who have been served by a State through its refugee resettlement or social services system in FYs 2001, 2002, and 2003. The resulting per capita amount is multiplied by—

3. The number of persons in item 2, above, in the State as of October 1, 2003, adjusted for estimated secondary migration.

The calculation above yields the formula allocation for each State. Minimum allocations for small States are taken into account.

IV. Basis of Population Estimates

The population estimates for the final allocation of funds in FY 2004 for the formula social service allocation are based on data on refugee arrivals from the ORR Refugee Arrivals Data System, adjusted as of September 30, 2003, for estimated secondary migration. The data base includes refugees of all nationalities, Amerasians from Viet Nam, and Cuban and Haitian entrants. Data on trafficking victims are taken from the total number of trafficking victims' certification and eligibility letters issued by ORR. Additional data on asylees were submitted by twenty-two States, verified by ORR and included in the final allocation for FY 2004.

For Fiscal Year 2004, ORR's final formula social service allocations for the States are based on the numbers of refugees, Amerasians, victims of a severe form of trafficking, entrants and Havana parolees. Refugee numbers are based upon the arrivals during the preceding fiscal years: 2001, 2002, and 2003. After consultation with the Refugee Processing Center (RPC), Department of State (DOS), ORR has decided to use the ORR-Refugee Arrivals Data System (ORR-RADS) database of arrival numbers for FYs 2001, 2002, and the RPC data for FY 2003 as the basis for the final FY 2004 social services allocations.

The final FY 2004 social services allocations reflect adjustments in FY 2003 arrivals, secondary migration, victims of severe forms of trafficking, and asylees who have been served by the States in FYs 2001, 2002, and 2003 through its refugee resettlement program or social service system. These allocations also reflect entrants who entered the U.S. at ports of entry or land borders other than Miami.

The data on secondary migration are based on data submitted by all participating States on Form ORR-11 on secondary migrants who have resided in the U.S. for 36 months or less, as of September 30, 2003. The total migration reported by each State was due to ORR on January 5, 2004. The total migration is summed by ORR, yielding in- and out-migration figures and a net migration figure for each State. The net migration figure is applied to the State's total arrival figure, resulting in a revised ORR population estimate. ORR calculations are developed separately for refugees and entrants and then combined into a total final 3-year refugee/entrant population for each State. Eligible Amerasians are included in the refugee figures. Havana parolees (HP's) are enumerated in a separate column in Table 1, below, because they are tabulated separately from other entrants. Havana parolee arrivals for all States are based on actual data.

Table 1 (attached) shows the final 3-year populations, as of October 1, 2003, of refugees (col. 1), entrants (col. 2), Havana parolees (col. 3), asylees (col. 4), victims of trafficking (col. 5), total population (col. 6), the proposed formula amounts which the population yields (col. 7), and the final allocation by States (col. 8).

Twenty-two States which have served asylees during the past three years submitted the following information in order to have their population estimate adjusted to include those asylees whose asylum was granted within the 36 month period ending September 30, 2003: (1) Alien number; (2) date of birth; and, (3) the date asylum was granted.

ORR credited one State that have served victims of a severe form of trafficking during the past year with additional numbers as verified with ORR certification letters issued, and reductions were made in two States. States which have served victims of trafficking submitted the following information in order to have their population estimate adjusted to include these trafficking victims: (1) Alien number, if available; (2) date of birth; (3) certification letter number, and, (4) date on the certification letter.

V. Final Allocation Amounts

Funding subsequent to the publication of this final notice will be contingent upon the submission and approval of a State annual services plan that is developed on the basis of a local consultative process, as required by 45 CFR 400.11(b)(2) in the ORR regulations.

Table 1, attached, represents the final allocation for refugee social services in FY 2004.

VI. Paperwork Reduction Act

This notice does not create any reporting or record keeping requirements requiring OMB clearance.

Dated: June 7, 2004.
Nguyen Van Hanh,
Director, Office of Refugee Resettlement.

BILLING CODE 4184-01-P

[FR Doc. 04-14356 Filed 6-23-04; 8:45 am]

BILLING CODE 4184-01-C